DEPARTMENT OF HOUSING AND URBAN DEVELOPMENT

[Docket No. FR-5601-N-26]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Mr. Scott Whiteford, Army Corps of Engineers, Real Estate, CEMP-CR, 441 G Street NW., Washington, DC 20314; (202) 761-5542; ENERGY: Mr. Mark C. Price, Office of Engineering & Construction Management, OECM MA-50, 4B122, 1000 Independence Ave. NW., Washington, DC, 20585, (202) 586-5422; GSA: Mr. Flavio Peres, General Services Administration, Office of Real Property Utilization and Disposal, 1800 F Street NW., Room 7040 Washington, DC 20405, (202) 501-0084; (These are not toll-free numbers).

Dated: June 28, 2012.
Ann Marie Oliva,
Deputy Assistant Secretary for Special Needs (Acting).

TITLE V, FEDERAL SURPLUS PROPERTY PROGRAM FEDERAL REGISTER REPORT FOR 07/06/2012

Suitable/Available Properties

Building

Kansas

Sun Dance Park

31051 Melvern Lake Pkwy

Melvern KS 66510

Landholding Agency: COE

Property Number: 31201220011

Status: Underutilized

Comments: 133 sf.; bathroom; poor to fair conditions;

Missouri

St. Louis District

Wappapello Lake Project Office

Wappapello MO 63966

Landholding Agency: COE

Property Number: 31201220014

Status: Unutilized

Comments: 376.69 sf.; comfort station; significant structural issues; need repairs

New Mexico

USDA/NRCS Grants Field Office

117 N. Silver

Grants NM 87020

Landholding Agency: GSA

Property Number: 54201220011

Status: Surplus

GSA Number: 7-A-NM-0604

Comments: 817 sf. for office bldg.; 2,714 sf. for storage; good conditions; office/storage; access will be provided by NRCS employees located in Grants, NM

Oklahoma

Dam Site North/Ranger Creek

8568 State Hwy 251A

Ft. Gibson OK 74434

Landholding Agency: COE

Property Number: 31201220016

Status: Unutilized

Comments: Off-site removal only; 36 sf.; pump house; fair conditions; access road is gated; unlocked by Ft. Gibson Lake personnel during regular business hrs.

Washington

Residence, Central Ferry Park

1001 Little Goose Dam Rd.

Dayton WA 99328

Landholding Agency: COE

Property Number: 31201220008

Status: Unutilized

Comments: Off-site removal only; 1,500 sf.; residence; good conditions; park closed for over 14 months; access easement is required through a real estate instrument

Restroom, Central Ferry Park

1001 Little Goose Dam Rd.

Dayton WA 99328

Landholding Agency: COE

Property Number: 31201220009

Status: Unutilized

Comments: Off-site removal only; 2,457 sf.; restroom; good conditions; park closed for over 14 months; access easement is required through a real estate instrument

Restroom, Central Ferry Park

1001 Little Goose Dam Rd.

Dayton WA 99328

Landholding Agency: COE

Property Number: 31201220010

Status: Unutilized

Directions: Boat Ramp Area

Comments: Off-site removal only; 420 sf.; restroom; good conditions; park closed for over 14 months; access easement is required through a real estate instrument

Restroom, Central Ferry Park

1001 Little Goose Dam Rd.

Dayton WA 99328

Landholding Agency: COE

Property Number: 31201220012

Status: Unutilized

Comments: Off-site removal only; 660 sf.; restroom; park closed for over 14 months; access easement is required through a real estate instrument

Restroom, Illia Dunes

1001 Little Goose Dam Rd.

Dayton WA 99328

Landholding Agency: COE

Property Number: 31201220013

Status: Unutilized

Comments: Off-site removal only; 220 sf.; restroom

Missouri

3 Structures

Bannister Federal Complex

Kansas City MO 64131

Landholding Agency: Energy

Property Number: 41201220001

Status: Excess

Directions: 33, 34, 35

Comments: Off-site removal only; 200 sf. each; personal shelters; still being utilized; arrangements to relocate can be made after Dec. 1, 2012

Oklahoma

Keystone Lake-Tract 1251A

Lake Ft. Gibson

Wagoner, OK

Landholding Agency: COE

Property Number: 31201220015

Status: Unutilized

Comments: Landlocked; no established rights or means of entry; crossing onto privately-owned property is prohibited by owners

Reasons: Not accessible by road

[FR Doc. 2012-16459 Filed 7-5-12; 8:45 am]

BILLING CODE 4210-67-P